FEDERAL ACCOUNTING STANDARDS ADVISORY BOARD

Notice of Issuance of Technical Release 22, Leases Implementation Guidance Updates

AGENCY: Federal Accounting Standards Advisory Board.

ACTION: Notice.

SUMMARY: Notice is hereby given that the Federal Accounting Standards Advisory Board has issued Federal Financial Accounting Technical Release 22 titled “Leases Implementation Guidance Updates: Amendments to Technical Release 20.”

ADDRESSES: Technical Release 22 is available on the FASAB website at http://www.fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: October 12, 2023.
Monica R. Valentine,
Executive Director.

[FR Doc. 2023-22860 Filed 10-16-23; 8:45 am]

BILLING CODE 1610-02-P